SECURITIES AND EXCHANGE COMMISSION

Sunshine Act Meeting

Notice is hereby given, pursuant to the provisions of the Government in the Sunshine Act, Public Law 94-409, that the Securities and Exchange Commission (“Commission”) will hold an Open Meeting on Monday, March 21, 2016, at 11:00 a.m., in the Auditorium (L-002) at the Commission's headquarters building, to hear oral argument in an appeal from an initial decision of an administrative law judge by respondents Edgar Page (“Page”) and PageOne Financial, Inc. (“PageOne”).

On March 10, 2015, after the Commission instituted proceedings, Page and PageOne submitted an offer of settlement, accepted by the Commission, pursuant to which they consented to entry of an order: finding that they violated the Investment Advisers Act of 1940 by failing to disclose a conflict of interest; imposing a censure and a cease-and-desist order; and ordering additional proceedings to determine what, if any, disgorgement, prejudgment interest, civil penalties, and other remedial action is in the public interest. In an initial decision issued June 25, 2015, the law judge barred Page from the securities industry, revoked PageOne's investment adviser registration, ordered Page and PageOne to disgorge $2,184,850.30, with prejudgment interest, jointly and severally, and declined to impose a civil penalty.

Page and PageOne appealed the sanctions imposed in the initial decision. The Commission's Division of Enforcement cross-appealed the initial decision's imposition of a time-limited industry bar, as opposed to a permanent industry bar with a right to reapply. The oral argument is likely to address what penalties, if any, are appropriate in the public interest. Also likely to be considered at oral argument is whether these administrative proceedings violate the U.S. Constitution.

For further information, please contact the Office of the Secretary at (202) 551-5400.

Dated: March 14, 2016.
Lynn M. Powalski,
Deputy Secretary.

[FR Doc. 2016-06130 Filed 3-15-16; 11:15 am]

BILLING CODE 8011-01-P